DEPARTMENT OF HEALTH AND HUMAN SERVICES

Centers for Disease Control and Prevention

[60Day-16-16FG; Docket No. CDC-2015-0109]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on Workplace Health In America, a nationally representative survey of employer-based workplace health programs to describe the current state of U.S. workplace health promotion and protection programs and practices in employers of all sizes, industries and regions.

DATES: Written comments must be received on or before January 26, 2016.

ADDRESSES: You may submit comments, identified by Docket No. CDC-2015-0109 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Workplace Health In America—New—National Center for Chronic Disease Prevention and Health Promotion (NCCDPHP), Centers for Disease Control and Prevention (CDC).

Background and Brief Description

The health of a workplace and its workers are inextricably linked. Ideally, workplaces not only protect the safety and wellbeing of employees but also provide them opportunities for better long-term health and enhanced quality of life. Effective workplace programs, policies, and environments that are health-focused and worker-centered have the potential to significantly benefit employers, employees, their families, and communities. As the nation's premier public health agency, the CDC helps protect the health and safety of all people in our schools, communities, homes and workplaces through prevention. The workplace can specifically protect and promote health through programs, policies, and practices that have the potential of reaching millions of workers, retirees, and their families.

Increasing health care costs and decreasing health-related productivity are leading American businesses to examine strategies to improve employee health and contain health costs that are largely driven by chronic diseases and related lifestyle choices. Employers are recognizing the role they can play in creating a healthy work environment and providing their employees with opportunities to make healthy lifestyle choices. They increasingly look to CDC and other public health experts for guidance and solutions to combat the effects of chronic diseases on their employees and businesses. Workplace health programs not only benefit individual employees but also make good business sense.

Although a number of national and local level studies and surveys have been conducted over the past 25 years examining aspects of workplace health promotion and protection programs, there has not been, to date, a systematic and ongoing effort to document the evidenced-based and best practice strategies and interventions at the individual employee and organizational level that comprise a comprehensive workplace health program from a nationally representative sample of employers. Workplace Health in America is authorized by the Public Health Service Act and funded through the Prevention and Public Health Fund of the Patient Protection and Affordable Care Act (ACA). CDC has developed the Workplace Health in America survey program to describe the current state of U.S. workplace health promotion and protection programs and practices in employers of all sizes, industries and regions. National worksite health promotion experts, employers, and content experts from the CDC advised on the survey content. Items from existing, validated surveys were used whenever possible. The survey contains yes/no, multiple choice and a small number of open-ended items.

The Workplace Health in America survey is designed to collect information about: Basic organizational characteristics; employer-sponsored health insurance; health risk assessments; staffing and other resources devoted to employee health and safety programming; incentives; work-life policies and benefits; availability of health screenings and disease management programs; occupational safety and health programs. The survey items also cover the presence of evidence-based and other health promotion programs, policies and supports related to physical activity; nutrition; weight; tobacco; excess alcohol use and drug abuse; lactation and prenatal support; musculoskeletal disorders, arthritis and back pain; stress; and sleep.

CDC seeks to request Office of Management and Budget (OMB) approval. The information that is collected is intended to build an infrastructure supporting ongoing surveillance to evaluate national workplace health priorities (e.g., Healthy People), monitor trends, and address emerging issues; provide free and accessible benchmarking data for employers and other stakeholders in workplace health promotion and protection; provide a better understanding of employer practices to inform the development of tools and resources to support the design, implementation, and evaluation of employer-based workplace health programs; and advance workplace health promotion and protection research.

To achieve these aims, CDC has developed an infrastructure for this initial effort that can be expanded for future iterations of data collection. CDC has designed a process to select a nationally representative sample of worksites representing employers in all size categories, industry sectors, and CDC regions. The data collection platform was developed to collect information primarily by online survey or telephone assisted interview, and can be easily modified to accommodate additional survey modules. CDC has also created a dissemination plan to ensure the data and results can be used by employers and other stakeholders beyond the research community. Planned dissemination products include webinars to employer groups, an online dashboard for employers to benchmark their programs against other employers with comparable characteristics, and brief reports tailored to employers of different sizes.

OMB approval is requested for two years. CDC estimates that a total 8,085 employers will complete the Workplace Health in America survey. Participation is voluntary and there are no costs to respondents other than their time.

Estimated Annualized Burden Hours
Type of respondents | Form name | Number of respondents | Number of responses per respondent | Average burden per response (in hrs.) | Total burden (in hrs.)
Wellness/HR representative | Screening and Recruiting call | 11,684 | 1 | 15/60 | 2,921
| Workplace Health in America Survey | 4,043 | 1 | 40/60 | 2,695
Total |  |  |  |  | 5,616

Leroy A. Richardson,
Chief, Information Collection Review Office, Office of Scientific Integrity, Office of the Associate Director for Science, Office of the Director, Centers for Disease Control and Prevention.

[FR Doc. 2015-30132 Filed 11-25-15; 8:45 am]

BILLING CODE 4163-18-P